DEPARTMENT OF COMMERCE

National Oceanic and Atmospheric Administration

[Docket No.: 020821203-2203-01]

Call for Proposals for Research in Satellite Data Assimilation for Numerical and Climate Prediction Models—Correction

AGENCY: National Oceanic and Atmospheric Administration (NOAA), National Environmental Satellite, Data, and Information Service (NESDIS).

ACTION: Notice.

SUMMARY: The National Environmental Satellite, Data, and Information Service (NESDIS) publishes this notice to amend a notice entitled Call for Proposals for Research in Satellite Data Assimilation for Numerical and Climate Prediction Models.

ADDRESSES: All submissions should be directed to: NOAA/NASA Joint Center for Satellite Data Assimilation, Attn: Kathy LeFevre, 5200 Auth Road, Room 701, Camp Springs, MD 20746-4304.

FOR FURTHER INFORMATION CONTACT: Kathy LeFevre, (301) 763-8127, Kathy.LeFevre@noaa.gov.

SUPPLEMENTARY INFORMATION: The National Environmental Satellite, Data, and Information Service (NESDIS) published a notice of availability of financial assistance in the Federal Register of September 20, 2002, (67 FR 59264, entitled “Call for Proposals for Research in Satellite Data Assimilation for Numerical and Climate Prediction Models.”) The following pages of the Federal Register notice of September 20, 2002 are amended as follows:

On Page 59265: First column, under the heading DATES, sixth line, “November 15, 2002” should read “December 9, 2002. If you have already submitted an application we are accepting revisions.”

First column, under the sub-heading Funding Availability, the second sentence should read: “Individual annual awards in the form of grants and cooperative agreements are expected to range from $50,000 to $150,000, although greater amounts may be awarded.”

Second column, under the sub-heading Eligibility, the first sentence should read: “Eligible applicants are institutions of higher education, other non profits, commercial organizations, state, local and Indian tribal governments and Federal agencies (NOAA and non-NOAA).”

On pages 59266 and 59267: Under the sub-heading, Program Description, Project Priorities Areas of Investigation, the paragraphs entitled “Atmospheric Soundings” and “Clouds and Precipitation” should read as follows:

Atmospheric Soundings

1. Improvements and/or enhancement to radiative transfer models for advanced sounding instruments, incorporating cloud and aerosol effects, with the aim of working toward (a) assimilation of cloudy data, (b) aerosol correction of retrieved quantities, and (c) improved surface emissivity for use of data over land and ice (see Radiative Transfer Models, above).

3. Observation System Simulation Experiments (OSSEs) for high-resolution infrared sounders (e.g., AIRSA, CrIS, IASI) aimed at examining the trade-off between the size of the instrument field of view and the noise characteristics.”

Clouds and Precipitation

Second paragraph should read: “The incorporation of cloud and precipitation data will require development of many components of the data assimilation system. These developments may include not only appropriate forward models, errors statistics, bias correction and quality control, but also development of appropriate moist balances, new techniques for handling non-linearities in the balance equations or forward models, and modification of the model's parameterizations to increase compatibility with the observations and to eliminate inappropriate discontinuities.”

On Page 59267: Column one, paragraph entitled “Oceans”, the following sentence is deleted: “Successful proposals will require close coordination with NOAA/NCEP and/or NASA/NSIPP.”

On Page 59267: Under the sub-heading Application Procedures, the following sentence is added:

“The Department of Commerce Pre-Award Notification of Requirements for Grants and Cooperative Agreements contained in the Federal Register notice of October 1, 2001 (66 FR 49917), as amended by the Federal Register notice published on October 30, 2002 (67 FR 66109), is applicable to this solicitation.”

The following sentences are removed: “The Department of Commerce Pre-Award Notification of Requirements for Grants and Cooperative Agreements contained in the Federal Register Notice of October 1, 2001 (66 FR 49917; DOCID:fr01oc01-39) are applicable to this solicitation. However, please note that the Department of Commerce will not implement the requirements of Executive Order 13202 (66 FR 49921), pursuant to guidance issued by the Office of Management and Budget in light of a court opinion which found that the Executive Order was not legally authorized. See Building and Construction Trades Department v. Allbaugh, 172 F. Supp. 2d 138 (D.D.C. 2001). This decision is currently on appeal. When the case has been finally resolved, the Department will provide further information on implementation of Executive Order 13202.”

On page 59268: Under the sub-heading Selection Criteria (With Weights), criteria numbers one and three should read as follows:

“1. Importance and relevance of research to the assimilation of satellite data in NWP models (25 points). Will the proposed work advance the science of assimilating satellite data in NWP models? Will the proposed project make a significant contribution to the high priority research and technical areas listed above?”

“3. Applicability and Effectiveness (25 points). Does the proposed work have the potential to significantly advance the use of satellite observations in numerical weather and short-term climate prediction models? Does the proposed work have the potential for long-term (lasting) value and widespread applicability? Does the proposed work include an effective mechanism by which the project's progress can be evaluated?”

Dated: November 18, 2002.
Mary M. Glackin,
Deputy Assistant Administrator for Satellite and Information Services.

[FR Doc. 02-29838 Filed 11-22-02; 8:45 am]

BILLING CODE 3510-HR-P